DEPARTMENT OF ENERGY

Federal Energy Regulatory Commission

[Docket No. RP00-342-002]

MIGC, Inc.; Notice of Compliance Filing

September 18, 2001.

Take notice that on September 12, 2001, MIGC, Inc. (MIGC) tendered for filing as part of its FERC Gas Tariff, First Revised Volume No. 1, the following pro forma tariff sheets, to become effective upon further order of the Commission.

First Revised Sheet No. 30

First Revised Sheet No. 31

First Revised Sheet No. 32

Third Revised Sheet No. 33

Original Sheet No. 33A

Original Sheet No. 52B

Fourth Revised Sheet No. 60

Original Sheet No. 60A

Third Revised Sheet No. 61

Third Revised Sheet No. 69

Third Revised Sheet No. 70

Fourth Revised Sheet No. 85

First Revised Sheet No. 118

First Revised Sheet No. 119

MIGC asserts that the purpose of this filing is to comply with the Commission's order issued July 11, 2001, in Docket No. RP00-342-000, to file actual tariff sheets reflecting certain revisions to its June 15, 2000 filing in compliance with Order No. 637.

Any person desiring to protest said filing should file a protest with the Federal Energy Regulatory Commission, 888 First Street, N.E., Washington, D.C. 20426, in accordance with Section 385.211 of the Commission's Rules and Regulations. All such protests must be filed in accordance with the Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-23815 Filed 9-21-01; 8:45 am]

BILLING CODE 6717-01-M